DEPARTMENT OF AGRICULTURE

Farm Service Agency

Information Collection Request: Highly Erodible Land Conservation and Wetland Conservation

AGENCIES: Farm Service Agency, USDA.

ACTION: Notice; request for comments.

SUMMARY: In accordance with the Paperwork Reduction Act of 1995, the Farm Service Agency (FSA) is seeking comments from all interested individuals and organizations on an extension of a currently approved information collection associated with Highly Erodible Land Conservation and Wetland Conservation certification requirements. This information is collected in support of the conservation compliance provisions of Title XII of the Food Security Act of 1985 (the 1985 Farm Bill), as amended by the Food, Conservation, and Energy Act of 2008 (the 2008 Farm Bill).

DATES: We will consider comments that we receive by September 18, 2009.

ADDRESSES: We invite you to submit comments on this notice. In your comments, include date, volume, and page number of this issue of the Federal Register. You may submit comments by any of the following methods:

• Mail: Jan Jamrog, Program Manager, Production, Emergencies, and Compliance Division, Farm Service Agency, United States Department of Agriculture, Room 4752-S, STOP 0517, 1400 Independence Avenue, SW., Washington, DC 20250.

• E-mail: Jan.Jamrog@wdc.usda.gov.

• Fax: (202) 690-2130.

You may also send comments to the Desk Officer for Agriculture, Office of Information and Regulatory Affairs, Office of Management and Budget, Washington, DC 20503.

FOR FURTHER INFORMATION CONTACT: Jan Jamrog, Program Manager, (202) 690-0926.

SUPPLEMENTARY INFORMATION:

Title: Highly Erodible land Conservation and Wetland Conservation Certification.

OMB Control Number: 0560-0185.

Expiration Date of Approval: January 31, 2010.

Type of Request: Extension of a currently approved information collection.

Abstract: The collection of this information is necessary to determine payment eligibility of individuals and entities for various programs administered by the USDA including Conservation Programs, Price Support Programs, Direct and Counter Cyclical Programs, including the Average Crop Revenue Election Program, Aquaculture and Livestock Grant Programs, Crop and Livestock Energy Programs, USDA Revenue Programs, Wildlife Programs, Noninsured Crop Disaster Assistance Program, Disaster Programs and Farm Loan Programs. Regulations governing the requirements under Title XII of the Food Security Act of 1985 (16 U.S.C. 3801-3862), as amended by the Food, Conservation, and Energy Act of 2008, relating to highly erodible lands and wetlands are in 7 CFR part 12. In order to ensure that persons who request program benefits subject to conservation restrictions obtain the necessary technical assistance and are informed regarding the compliance requirements on their land, information is collected with regard to their intended activities on their land which could affect their eligibility for requested USDA benefits. Once technical determinations are made, producers are required to certify that they will comply with the conservation requirements on their land to maintain their eligibility for certain programs. Persons may request that certain activities be exempt according to provisions of the 1985 Farm Bill. Information is collected from those individuals who seek these exemptions for the purpose of evaluating whether the exempted conditions will be met. Forms AD-1026, AD-1026B, AD-1026-C, AD-1026D, AD-1068, AD-1069, CCC-21, and FSA-492 are being used for making determinations in this information collection. The forms are not required to be completed on an annual basis.

Estimate of Burden: Public reporting burden for this collection of information is estimated to average 10 minutes per response. The average travel time, which is included in the total annual burden, is estimated to be 1 hour per respondent.

Respondents: Individuals and entities.

Estimated Number Respondents: 262,788.

Estimated Number of Responses per Respondent: 1.

Estimated Total Annual Burden Hours: 262, 346.

We are requesting comments on all aspects of this information collection, including the following, to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All responses to this Notice will be summarized and included in the information collection request for Office of Management and Budget approval. All comments will also become a matter of public record.

Signed at Washington, DC, on July 13, 2009.
Jonathan Coppess,
Administrator, Farm Service Agency.

[FR Doc. E9-17130 Filed 7-17-09; 8:45 am]

BILLING CODE 3410-05-P